DEPARTMENT OF THE INTERIOR

Bureau of Reclamation

[INT-DES 10-54]

Odessa Subarea Special Study; Adams, Franklin, Grant, and Lincoln Counties, WA

AGENCY: Bureau of Reclamation, Interior.

ACTION: Notice for extension of the public comment period for the Draft Environmental Impact Statement (DEIS).

SUMMARY: The Bureau of Reclamation is extending the comment period for the Odessa Subarea Special Study DEIS to January 31, 2011. The original notice of availability for the DEIS was published in the Federal Register on October 25, 2010. The public review period was originally scheduled to end on December 31, 2010 (75 FR 65503).

DATES: Written or e-mailed comments on the Draft EIS will be accepted through January 31, 2011.

ADDRESSES: Written comments on the Draft EIS may be submitted to Bureau of Reclamation, Columbia-Cascades Area Office, Attention: Charles Carnohan, Activity Manager, 1917 Marsh Road, Yakima, Washington 98901-2058. Comments may also be submitted electronically to Odessa@usbr.gov.

FOR FURTHER INFORMATION: Contact Charles Carnohan, Activity Manager, Telephone (509) 575-5848 x603. Information on this project can also be found at http://www.usbr.gov/pn/programs/ucao_misc/odessa/index.html.

SUPPLEMENTARY INFORMATION: The Draft EIS is available for public inspection at the following locations:

• Bureau of Reclamation, Columbia-Cascades Area Office, 1917 Marsh Road, Yakima, WA 98901-2058; telephone: (509) 575-5848.

• Bureau of Reclamation, Pacific Northwest Regional Office, 1150 North Curtis Road, Suite 100, Boise, ID 83706-1234; telephone: (208) 378-5012.

Libraries

• Ritzville Public Library, 302 West Main, Ritzville, WA 99169.

• Basin City Branch, Mid-Columbia Library, Basin City, WA 99343.

• Benton-Franklin County Regional Law Library, Columbia Basin College, L Building, 2600 North 10th Avenue, Pasco, WA 99301.

• Big Bend Community College Library, Building 1800, 7611 Bolling Street, NE., Moses Lake, WA 98837.

• Columbia Basin College Library, 2600 North 20th Avenue, Pasco, WA 99301.

• Connell Branch, Mid-Columbia Library, 118 North Columbia Avenue, Connell, WA 99362.

• Coulee City Public Library, 405 West Main Street, Coulee City, WA 99115.

• Ephrata City Library, 45 Alder Street Northwest, Ephrata, WA 98823-2420.

• Grant County Law Library, 35 C Street, NW., Ephrata, WA 98823.

• Kahlotus Branch, Mid-Columbia Library, East 225 Weston, Kahlotus, WA 99335.

• Moses Lake Community Library, 418 East 5th Avenue, Moses Lake, WA 98837-1797.

• Odessa Public Library, 21 East 1st Avenue, Odessa, WA 99159.

• Othello Branch, Mid-Columbia Library, 101 East Main, Othello, WA 99344.

• Pasco Branch, Mid-Columbia Library, 1320 West Hopkins, Pasco, WA 99301.

• Quincy Public Library, 108 B Street Southwest, Quincy, WA 98848.

• North Central Regional Library, Royal City Library, 136 Camelia Street, Royal City, WA 99357.

• Seattle Public Library, Central Library, 1000 Fourth Avenue, Seattle, WA 98104.

• Sprague Public Library, 119 West Second Street, Sprague, WA 99032.

• North Central Regional Library, Warden Library, 305 South Main Street, Warden WA 98857.

• Washington State Library, 6880 Capitol Boulevard South, Olympia, WA 98504.

Public Disclosure Statement

If you wish to comment, you may mail or e-mail your comments as indicated under the ADDRESSES section. Before including your name, address, phone number, e-mail address, or other personal identifying information in your comment, you should be aware that your entire comment (including your personal identifying information) may be made publicly available at any time. While you can request in your comment for us to withhold your personal identifying information from public review, we cannot guarantee that we will be able to do so.

Karl E. Wirkus,
Regional Director, Pacific Northwest Region.

[FR Doc. 2010-32525 Filed 12-27-10; 8:45 am]

BILLING CODE 4310-MN-P